FEDERAL TRADE COMMISSION

Guidelines for Ensuring and Maximizing the Quality, Objectivity, Utility, and Integrity of Information Disseminated by the Federal Trade Commission

AGENCY: Federal Trade Commission (FTC).

ACTION: Notice of availability of draft guidelines; request for public comment.

SUMMARY: The FTC is making available its draft guidelines to implement section 515 of the Treasury and General Government Appropriations Act for Fiscal Year 2001 and government-wide guidance issued by the Office of Management and Budget for ensuring and maximizing the quality, objectivity, utility, and integrity of information disseminated by Federal agencies.

DATES: Comments must be submitted on or before June 1, 2002.

ADDRESSES: For comments in paper form: Secretary, Federal Trade Commission, Room H-159, 600 Pennsylvania Ave., NW., Washington, DC 20580. For comments in electronic form: 515@ftc.gov. Provide electronic attachments, if any, in ASCII, WordPerfect, or Microsoft Word format. Please caption all comments: “Comment—Draft 515 Guidelines.” Pursuant to Commission Rule 4.2(d), 16 CFR 4.2(d), if your comment includes confidential materials or other private or sensitive information, please submit your comment in paper form, label the first page “confidential,” and also identify the information you consider to be confidential, private, or otherwise sensitive. Except for portions legally exempt from disclosure, comments may be made part of the public record or otherwise disclosed in accordance with applicable law, rules, and Commission policy. See 16 CFR 4.9(b); www.ftc.gov/ftc/privacy.htm. As discussed below, the FTC's draft section 515 guidelines are being posted on the Commission's Web site www.ftc.gov. Requests for paper copies of the guidelines should be addressed to the Public Reference Branch, FTC, 600 Pennsylvania Ave. NW., Washington, DC, 20580, (202) 326-2222.

FOR FURTHER INFORMATION CONTACT: Alex Tang, (202) 326-2447, or Gary Greenfield, (202) 326-2753, Attorneys, Office of the General Counsel, FTC; Daniel Danckaert, (202) 326-2222, Office of the Chief Information Officer, FTC.

SUPPLEMENTARY INFORMATION: Section 515 of the Treasury and General Government Appropriations Act for Fiscal Year 2001, Public Law 106-554, and implementing guidance issued by the Office of Management and Budget (OMB) require agencies to develop and issue guidelines for ensuring and maximizing the quality, objectivity, utility, and integrity of information that they disseminate to the public. See 67 FR 8452 (Feb. 22, 2002) (OMB Guidelines republished in their entirety).

Each agency is required to prepare and make available to the public a draft report, providing the agency's information quality guidelines and explaining how the guidelines will achieve information quality, utility, objectivity, and integrity. (In a notice published on March 4, 2002, OMB extended the original deadline for this draft report of April 1, 2002, to May 1, 2002. See 67 FR 9797.) The report must also detail the administrative mechanisms developed by the agency to allow affected persons to seek and obtain appropriate correction of information maintained and disseminated by the agency that does not comply with the OMB or the agency guidelines. The agency is required to publish a notice of availability of its draft report in the Federal Register and to post the report on the Web site to provide an opportunity for public comment. After consideration of such comment and appropriate revision, if any, the agency must submit the report to OMB no later than July 1, 2002. After comments, if any, are received from OMB, the agency must publish a notice of the availability of the report in its final form in the Federal Register and post the report on its Web site no later than October 1, 2002, which is the date the agency's guidelines are to become effective. The agency is required to submit further reports, on an annual fiscal-year basis, to OMB, by January 1 of each following year, regarding the number and nature of complaints received regarding agency compliance with the OMB guidelines and how such complaints were resolved. The first annual report is due January 1, 2004.

In accordance with the above requirements, the FTC is publishing this notice of the availability of its draft report pursuant to section 515 and the OMB Guidelines. The FTC's report, which includes the draft information quality guidelines and draft administrative mechanism for resolving section 515 requests for correction of information dissemination products, is being posed on the FTC's Web site, www.ftc.gov. The FTC seeks public comment on the guidelines and administrative mechanism until June 1, 2002. The FTC will review the comments and make appropriate revisions, if any, before submitting the report to OMB by July 1, 2002, as required by section 515 and the OMB Guidelines.

Paperwork Reduction Act

The administrative mechanism for affected persons seeking correction of FTC information dissemination products is not an agency information collection activity that requires OMB review and approval under the Paperwork Reduction Act, 44 U.S.C. 3501-3520. See 5 CFR 1320.3(h)(1).

By direction of the Commission.
Donald S. Clark,
Secretary.

[FR Doc. 02-10690 Filed 4-30-02; 8:45 am]

BILLING CODE 6750-01-M